DEPARTMENT OF TRANSPORTATION

Federal Aviation Administration

14 CFR Part 39

[Docket No. 2003-NM-256-AD; Amendment 39-13968; AD 2005-03-12]

RIN 2120-AA64

Airworthiness Directives; Airbus Model A330, A340-200, and A340-300 Series Airplanes

AGENCY: Federal Aviation Administration, DOT.

ACTION: Final rule; correction.

SUMMARY: This document corrects a typographical error that appeared in airworthiness directive (AD) 2005-03-12 that was published in the Federal Register on February 14, 2005 (70 FR 7386). The typographical error resulted in an incorrect AD number. This AD is applicable to certain Airbus Model A330, A340-200, and A340-300 series airplanes. This AD requires initial and repetitive inspections of certain frame stiffeners to detect cracking and replacement of any cracked stiffener with a new, reinforced stiffener. Replacement of the stiffener constitutes terminating action for certain inspections. This AD also requires a one-time inspection of any new, reinforced stiffener; and repair or replacement of the new, reinforced stiffener if any cracking is found during the one-time inspection. This AD also provides for an optional terminating action for certain requirements of this AD.

DATES: Effective March 21, 2005.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: Airworthiness Directive (AD) 2005-03-12, amendment 39-13968, applicable to certain Airbus Model A330, A340-200, and A340-300 series airplanes, was published in the Federal Register on February 14, 2005 (70 FR 7386). That AD requires initial and repetitive inspections of certain frame stiffeners to detect cracking and replacement of any cracked stiffener with a new, reinforced stiffener. Replacement of the stiffener constitutes terminating action for certain inspections. That AD also requires a one-time inspection of any new, reinforced stiffener; and repair or replacement of the new, reinforced stiffener if any cracking is found during the one-time inspection. That AD also provides for an optional terminating action for certain requirements of that AD.

As published, that final rule incorrectly specified the AD number in a single location in the AD as “2005-NM-03-12” instead of “2005-03-12.”

Since no other part of the regulatory information has been changed, the final rule is not being republished in the Federal Register.

The effective date of this AD remains March 21, 2005.

§ 39.13 [Corrected]

In the Federal Register of February 14, 2005, on page 7388, in the first column, paragraph 2. of PART 39—AIRWORTHINESS DIRECTIVES is corrected to read as follows:

* * * * *

2005-03-12 Airbus: Amendment 39-13968. Docket 2003-NM-256-AD.

* * * * *

Issued in Renton, Washington, on February 28, 2005.
Ali Bahrami,
Manager, Transport Airplane Directorate, Aircraft Certification Service.

[FR Doc. 05-4824 Filed 3-10-05; 8:45 am]

BILLING CODE 4910-13-P